DEPARTMENT OF ENERGY

Federal Energy Regulatory Commission

Combined Notice of Filings #2

Take notice that the Commission received the following exempt wholesale generator filings:

Docket Numbers: EG15-105-000.

Applicants: Prairie Breeze Wind Energy III LLC.

Description: Notice of Self-Certification of Exempt Wholesale Generator Status of Prairie Breeze Wind Energy III LLC.

Filed Date: 7/15/15.

Accession Number: 20150715-5103.

Comments Due: 5 p.m. ET 8/5/15.

Take notice that the Commission received the following electric rate filings:

Docket Numbers: ER10-2881-014; ER14-787-002; ER13-1541-008; ER13-1101-009; ER10-2886-014; ER10-2885-014; ER10-2884-014; ER10-2883-014; ER10-2882-014; ER10-2663-014; ER10-2641-014; EL15-39-000.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC.

Description: Answer of Alabama Power Company, et al., to the April 27, 2015 Order.

Filed Date: 6/26/15.

Accession Number: 20150701-0178.

Comments Due: 5 p.m. ET 8/5/15.

Docket Numbers: ER14-1485-004.

Applicants: PJM Interconnection, L.L.C.

Description: Tariff Amendment: PJM Request to Release Stay in Docket No. ER14-1485-000 to be effective 6/11/2014.

Filed Date: 7/15/15.

Accession Number: 20150715-5088.

Comments Due: 5 p.m. ET 8/5/15.

Docket Numbers: ER15-279-001.

Applicants: Southwest Power Pool, Inc.

Description: Compliance filing: Compliance Filing—Central Nebraska Public Power & Irrig. District Stated Rate to be effective 1/1/2015.

Filed Date: 7/15/15.

Accession Number: 20150715-5093.

Comments Due: 5 p.m. ET 8/5/15.

Docket Numbers: ER15-529-001.

Applicants: Arizona Public Service Company.

Description: Compliance filing: OATT Modifications Pursuant to Order 676-H to be effective 5/15/2015.

Filed Date: 7/15/15.

Accession Number: 20150715-5084.

Comments Due: 5 p.m. ET 8/5/15.

Docket Numbers: ER15-547-001.

Applicants: Avista Corporation.

Description: Compliance filing: Avista Corp OATT Order 676-H Compliance Filing to be effective 7/16/2015.

Filed Date: 7/15/15.

Accession Number: 20150715-5082.

Comments Due: 5 p.m. ET 8/5/15.

Docket Numbers: ER15-1419-002.

Applicants: Emera Maine.

Description: Compliance filing: Order No. 676-H compliance filing to be effective 5/15/2015.

Filed Date: 7/15/15.

Accession Number: 20150715-5054.

Comments Due: 5 p.m. ET 8/5/15.

Docket Numbers: ER15-2207-000.

Applicants: PJM Interconnection, L.L.C.

Description: Section 205(d) Rate Filing: First Revised Service Agreement No. 3915; Queue Y2-042/Z2-104 (WMPA) to be effective 6/19/2015.

Filed Date: 7/15/15.

Accession Number: 20150715-5081.

Comments Due: 5 p.m. ET 8/5/15.

Docket Numbers: ER15-2208-000.

Applicants: ISO New England Inc., New England Power Pool Participants Committee.

Description: Section 205(d) Rate Filing: Winter Reliability Solution to be effective 9/14/2015.

Filed Date: 7/15/15.

Accession Number: 20150715-5083.

Comments Due: 5 p.m. ET 8/5/15.

Docket Numbers: ER15-2209-000.

Applicants: Public Service Company of New Mexico.

Description: Section 205(d) Rate Filing: Certificates of Concurrence—Multiple ANPP Agreements to be effective 5/24/2012.

Filed Date: 7/15/15.

Accession Number: 20150715-5116.

Comments Due: 5 p.m. ET 8/5/15.

Docket Numbers: ER15-2210-000.

Applicants: Public Service Company of New Mexico.

Description: Tariff Cancellation: Cancellation of Filed Version to be effective 2/27/2013.

Filed Date: 7/15/15.

Accession Number: 20150715-5117.

Comments Due: 5 p.m. ET 8/5/15.

Docket Numbers: ER15-2211-000.

Applicants: MidAmerican Energy Services, LLC.

Description: Baseline eTariff Filing: Market-Based Rates—Initial Filing to be effective 9/14/2015.

Filed Date: 7/15/15.

Accession Number: 20150715-5125.

Comments Due: 5 p.m. ET 8/5/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2015.
Nathaniel J. Davis, Sr.,
Deputy Secretary.

[FR Doc. 2015-17799 Filed 7-20-15; 8:45 am]

BILLING CODE 6717-01-P